DEPARTMENT OF ENERGY

Western Area Power Administration

Floodplain/Wetland Statement for the Interconnection of the Sundance Energy Project with the Western Area Power Administration's Liberty-Coolidge 230-kilovolt Transmission Line (DOE/EIS-0322)

AGENCY: Western Area Power Administration, DOE.

ACTION: Notice of record of decision.

SUMMARY: PPL Sundance Energy, LLC, (Sundance) applied for an interconnection and transmission service from the Western Area Power Administration (Western) for the Sundance Energy Project, Pinal County, Arizona. To accommodate the request, Western has decided to upgrade and add to its transmission system in order to incorporate the new generation into the system. This Record of Decision (ROD) and Statement of Findings have been prepared in accordance with Council on Environmental Quality regulations for implementing the National Environmental Policy Act (NEPA) (40 CFR parts 1500-1508), Department of Energy (DOE) Procedures for Implementing NEPA (10 CFR part 1021), and DOE's Compliance with Floodplain/Wetland Review Requirements (10 CFR part 1022). Western's decision for its action considered the environmental ramifications of the Sundance Project. Western has determined that no significant environmental impacts would result from construction, operation, and maintenance of the Sundance Energy Project, the natural gas pipelines, the approximately 7 miles of new high-voltage transmission lines, or from the upgrade of approximately 5 miles of the Liberty-Coolidge 230-kilovolt (kV) and Coolidge Signal 115-kV Transmission Lines.

DATES: Western will take no action within floodplains until the completion of a 15-day public review period, ending September 17, 2001.

ADDRESSES: Written comments on Western's Floodplain Statement of Findings should be addressed to Mr. John Holt, Environment Manager, Desert Southwest Customer Service Region, Western Area Power Administration, P.O. Box 6457, Phoenix, AZ 85005; fax (602) 352-2630, email holt@wapa.gov.

FOR FURTHER INFORMATION CONTACT: Mr. John Holt, Environment Manager, at the above address or by phone (602) 352-2592.

SUPPLEMENTARY INFORMATION: Western is the lead Federal agency under NEPA for the Sundance Energy Project. No Federal, State, or Tribal organizations requested cooperator status. Western has decided to enter into interconnection agreements with Sundance, and to construct, operate, and maintain transmission system additions to provide the interconnection with its transmission system. The transmission system additions selected as part of the Proposed Action addressed in the Environmental Impact Statement (EIS) include a new 230-kV bay at Western's existing Coolidge Substation, an upgrade of the existing Coolidge-Signal 115-kV #2 Transmission Line to 230-kV, and an expansion of the existing Signal Substation. Western also selected new single- and double-circuit 230-kV transmission line additions as described under Alternative 3 in the EIS. Alternative 3 was selected over the Proposed Action transmission system additions and two transmission line alternatives because it would have less impact on agricultural activities. The selected transmission line would involve the construction of one new double-circuit 230-kV transmission line and one new single-circuit 230-kV transmission line, both heading north from the western edge of the powerplant towards Western's existing Liberty-Coolidge 230-kV Transmission Line. As the new transmission lines reach the South Side Canal, they would run northeast until they meet the Liberty-Coolidge 230-kV Transmission Line. The west circuit of the new double-circuit 230-kV transmission line would interconnect with Western's existing Liberty-Coolidge 230-kV Transmission Line, heading west to Liberty. The east circuit of the new double-circuit 230-kV transmission line would join the new single-circuit 230-kV transmission line and become a new double-circuit 230-kV transmission line on Western's existing Liberty-Coolidge 230-kV Transmission Line right-of-way, heading east towards Coolidge. The north circuit of this new double-circuit 230-kV transmission line would interconnect to the existing Liberty-Coolidge 230-kV Transmission Line and continue on the existing alignment north and then east to Coolidge. The south circuit of this new double-circuit 230-kV transmission line would become a single-circuit transmission line and continue east until it meets Western's existing Coolidge-Signal 115-kV #2 Transmission Line. The new 230-kV transmission line would combine with Western's existing Coolidge-Signal 115-kV #2 Transmission Line as a new double-circuit transmission line, heading north and east along the Coolidge-Signal 115-kV #2 Transmission Line alignment into Coolidge Substation.

This decision is based on a review of the environmental impacts of the project as addressed in the Draft and Final EIS, a review of all comments received during the 30-day waiting period after issuance of the Final EIS, and Western's abilities to continue to meet its current contractual obligations and customer needs, and maintain regional transmission reliability with the interconnection.

The Sundance Energy Project EIS (Draft issued March 2001, Final issued June 2001) addresses the effects of constructing and operating a nominal 540-megawatt, natural gas-fired, simple cycle, electrical generation peaking plant south of Coolidge, Arizona, in rural Pinal County. PPL Sundance Energy, LLC, owns the property on which it will build the powerplant. The project will include the construction of a natural gas transmission system for supplying fuel to the plant site, and a water transmission system for inlet air cooling, emission control, and on-site use. Western has no decision regarding these components of the project. Western did take into account the environmental ramifications of the whole project as addressed in the EIS in making its decision.

Alternatives Considered

No Action

Under the no action alternative, Western would not grant an interconnection to its system. Without the ability to interconnect with Western's system, the proposed project and appurtenant facilities would not be built. Existing environmental conditions would not change, although there may be adverse economic impacts due to the absence of needed electricity to meet peak energy demands. The No Action Alternative would result in slightly fewer overall environmental impacts, however, it was not selected because it would not meet the needs defined in the Sundance Energy Project EIS. The No Action Alternative would not have allowed Western to meet its obligations defined by its own Open Access Transmission Tariff, which was implemented to meet the intent of the Federal Energy Regulatory Commission (FERC) order to open transmission line access (FERC Order Nos. 888 and 888-A).

Facility

Western dismissed from full analysis alternative sites to the generating facility. The State of Arizona Corporation Commission has jurisdiction over siting of powerplants and made no suggestion regarding alternative sites or systems during their siting process. Western has no decision regarding the siting of the generating facility.

Gas Pipeline

There were no pipeline alternatives addressed in the EIS. Western has no decision regarding the proposed gas supply for the project.

High Voltage Transmission Lines

Three routing alternatives, in addition to the proposed action, were evaluated. The proposed action addressed in the EIS would be a “loop-in-loop-out” from the existing Liberty-Coolidge 230-kV line to the Sundance facility. This would involve a double circuit 230-kV line due north out of the plant site, approximately 8 miles up Tweedy Road to the interconnection with Western's existing Liberty-Coolidge 230-kV line. The proposed action would also include building a new 230-kV transmission line from the Sundance facility to an expanded Signal Substation, 1.5 miles east of the Sundance facility, and upgrading the existing Coolidge-ED2 115-kV line to 230-kV from the Signal Substation to the Coolidge Substation. The proposed action was not selected due to higher impacts on agricultural activities compared to the selected alternative.

Alternative 1

Alternative 1 would be identical to the proposed action with one new double-circuit 230-kV transmission line and one new single-circuit 230-kV transmission line. Alternative 1 would have all three circuits going north from the powerplant towards Western's existing Liberty-Coolidge 230-kV Transmission Line. The one new single-circuit 230-kV transmission line would follow the same alignment as the double circuit to the intersection of the Liberty-Coolidge line with Western's existing Coolidge-ED2 115-kV Transmission Line, where it would follow that route into the Coolidge Substation. This alternative was not selected due to higher impacts on agricultural activities.

Alternative 2

Alternative 2 would be identical to Alternative 1 except that the new single-circuit 230-kV transmission line would follow the same alignment until it crosses Western's existing Coolidge-ED2 115-kV #1 Transmission Line. The new single-circuit 230-kV transmission line would continue east until it meets Western's existing Coolidge-Signal 115-kV #2 Transmission Line. The new single-circuit 230-kV transmission line alignment then heads north and east adjacent to the Coolidge-Signal 115-kV #2 Transmission Line into Coolidge Substation. This alternative was not selected due to higher impacts on agricultural activities.

Comments Received During the Waiting Period

Three comment letters were received on the final EIS. Two comment letters stated that the change in air pollution control technology to Selective Catalytic Reduction (SCR) following issuance of the draft EIS required a supplement to the draft to allow the public to comment. The change to SCR technology was based on EPA Region IX and Pinal Country Air Quality Control District permit requirements. Western recognizes the concerns expressed by the commentors regarding ammonia transportation, storage, and use. Western will require the Sundance Energy Project to develop and implement an emergency response plan in accordance with State and local regulations.

The Environmental Protection Agency, Region IX (EPA), expressed concern over potential human health effects through the long-term use of Central Arizona Project (CAP) water mixed with waste water for irrigating crops. There is little potential for environmental or human health effects from the use of reclaimed waste water for irrigation. The only potential vector for the waste water to affect human health is the irrigation of food crops. The water would be used to irrigate alfalfa, Bermuda grass, cotton, and barley. Barley has the potential to be used in products for human consumption, and alfalfa could be fed to livestock ultimately consumed by humans. As shown in the Final EIS in Table 4-17, the waste water would be blended with CAP water to approximate the water quality in existing on-site ground water wells, currently used to irrigate the same lands where the blended waste water would be applied. Therefore, the potential to affect human health would be approximately the same as the current and past irrigation practices on the site and within the general area of Pinal County. For the reasons discussed above, and the fact that the waste water would be blended and stored in a lined pond prior to its discharge as irrigation water, the potential vectors for environmental effects would be limited. The liner would be designed to eliminate effects to ground water. There are no surface waters in the area other than the canals from which the CAP water would be extracted. There are no aquatic resources in the area and the ponds would be fenced to exclude wildlife. Waterfowl can land on the pond but the constituency of the water will not differ materially from that of local irrigation ponds, canals, effluent lakes, or other bodies of water currently available to them. Sundance Energy will be required to monitor the quality of waste water as part of the Arizona Department of Environmental Quality (ADEQ) Water Reuse Permit. The monitoring plan will ensure that waste water matches existing groundwater quality, thus minimizing potential adverse human health and environmental effects. If concentrations of any constituents approach levels known to be chronically toxic to wildlife, the sampling frequency will be increased to at least quarterly. Weekly observations of bird use at the ponds will be recorded, and the area around the pond would be monitored for wildlife mortalities. If concentrations of any constituents reach acutely toxic levels and the extended bird use of the ponds is high or substantial wildlife mortalities are recorded, Sundance will implement measures to reduce the toxicity by removing the toxic sediments or reducing wildlife use through exclusion or distraction devices.

EPA requested actual flow rates and chemical constituents of reclaimed water and waste water. The Draft EIS indicates that less than 1 million gallons per year of regeneration waste water will be produced and the constituents of that were listed in Table 4-17 in the Draft EIS and updated in Table 4-17 of the Final EIS.

Additionally, EPA requested the status of the various State water permits. The Aquifer Protection Permit Application and Wastewater Reuse Permit Application are currently being developed to submit to the Arizona Department of Environmental Quality. The Sundance Energy Project would not be operated without these permits. Both applications will be submitted in mid-August 2001. Sundance Energy would be required to monitor the quality of the wastewater as a part of the Reuse Permit.

EPA commented on the potential for wildlife to accumulate wastewater constituents, which is addressed above. Briefly, the waste water would be blended, if necessary, in order to bring all constituent levels to the level of existing available water. There would be no additional accumulation of heavy metals or trace elements beyond that which currently exists in the region. However, both the Arizona Department of Fish and Game and the U.S. Fish and Wildlife Service received copies of and had opportunities to review the Draft and Final EIS. Information on the toxicity of any of the constituents in the water can be found at or http://www.pwrc.usgs.gov/new/chrback.htm or http://www.oehha.org/cal_ecotox/.

EPA asked the status of consultations with the U.S. Army Corps of Engineers (COE) and the ADEQ regarding crossing of “Waters of the United States” with the transmission lines and pipelines. Any wetland disturbance that would occur as a result of pipeline or transmission line construction would be covered under Nationwide Permit 12. The EIS describes three potential gas interconnections: two onsite and one that would require the construction of a 14-mile pipeline offsite. It is currently anticipated that the two on-site interconnections would be sufficient to provide an adequate gas supply to the project and, if so, the off-site pipeline may not be needed. Therefore, permitting by COE for this pipeline has not been initiated and would be initiated only at such time that it is certain that it is needed for the project and a detailed pipeline design is developed as is required for the notification to the COE. Similarly, notification to the COE for the transmission lines would be submitted as detailed designs for them are completed. They are anticipated to affect wetlands or waters of the United States because the lines would not be designed to span all canals, mapped floodplains, or other wet areas.

EPA recommended the project commit to working with the local community and concerned public regarding an emergency response plan and measures. The Sundance Energy Project has already initiated contact with the Eleven Mile Corner School. Additionally, Sundance Energy would be working with the State and Pinal County to develop emergency response plans as required by the types and amounts of chemicals used and stored on the Project site. Western will ensure that a Spill Control and Countermeasure Plan is developed in accordance with applicable Federal, State, and local regulations and that an emergency response plan is developed.

EPA expressed concerns regarding noise levels that would be experienced by nine residences relatively close to the Project. Sundance Energy has completed the rezoning for the project and has received its industrial use permit from Pinal County. The project is currently working with Pinal County on local building and site issues. Currently, Pinal County has indicated that a berm would not be needed for visual or noise screening. Western will ensure that local noise ordinances are met.

EPA requested information regarding the Arizona Corporation Commission's (Commission) powerplant siting process. Generally, the Commission requires submitting an Application for a Certificate of Environmental Compatibility (ACEC). The ACEC requires the applicant to provide descriptions of the facilities it intends to develop, along with environmental information on air quality, biological, cultural, and recreational resources. Public meetings are held by the Arizona Power Plant and Line Siting Committee to recommend to the Commission whether or not to issue the Certificates. The Commission then holds public hearings to make its final determination. PPL Sundance Energy, LLC, has received a Certificate of Environmental Compatibility from the Commission. Through the Arizona power plant siting process, information was provided regarding other site options that were considered and evaluated by Sundance Energy. When siting a gas-fired powerplant, proximity to available gas and transmission are important for minimizing both costs and environmental impacts. In the case of Sundance Energy, the transmission interconnection point was the Coolidge Substation, and the nearest available gas was located at the two lines where the current site for the project is located. Therefore, the project could be located at the Coolidge Substation, on the existing pipelines, or some reasonable location between them. Sites at or near the Coolidge Substation were considered but were dismissed because of costs, proximity to the Gila River floodplain, proximity to the Casa Grande National Monument, proximity to the Gila River Indian Reservation, and increased potential for impacts to cultural resources. Sites between the two were dismissed because of proximity to the National Monument, the town of Coolidge, and other residential areas.

EPA requested a detailed description of the different alternatives developed for the high-voltage transmission line routes. These are detailed in Table S-1 in both the Draft and Final EIS. Briefly, the alternative selected as the environmentally preferred alternative, although slightly longer, impacts less agricultural land and has less potential to adversely affect local transportation. Transmission line routing options were all developed to try to utilize existing rights-of-way (canals, roads, pipelines, and transmission lines) and field lines to minimize establishing new rights-of-way that were not necessary and/or avoid needlessly traversing the middle of properties. The Proposed Action and Alternatives 1 and 2 were developed to take advantage of those various routing opportunities between the Project site and the Coolidge Substation. Alternative 3 was developed in direct response to comments from local landowners and the Arizona power plant and transmission line siting committee in order to mitigate concerns they had about the effects that the other transmission line alternatives would have on their continued use of their property. Alternative 3 was selected.

Mitigation Measures

All measures addressed in the EIS to minimize adverse impacts from the transmission system additions have been adopted. Table 2-4 in the Draft EIS lists the standard mitigative measures that are part of Western's proposed action. These would be used for the transmission line additions. Some of the measures include restricting vehicular traffic to existing access roads or public roads, recontouring and reseeding disturbed areas, environmental awareness training for all construction and supervisory personnel, and mitigation of radio and television interference generated by transmission lines. Additionally, Spill Prevention Control and Countermeasure (SPCC) plans for modified facilities will be reviewed to ensure new equipment is addressed.

In addition, Western will ensure that PPL Sundance Energy, LLC, implements the following measures:

1. Detailed emergency response plan and SPCC plans that meet Federal, State, and local requirements.

2. Implement conditions of individual or nationwide 404 permits if needed for new pipeline construction across waters of the United States.

3. Conduct pre-construction surveys along the new pipeline route to ensure impacts to special status species do not occur.

A Mitigation Action Plan with annual reporting requirements will be developed for the project to comply with DOE regulations found at 10 CFR part 1021.33 and made available to the public.

Western is the lead Federal agency for compliance with Section 106 of the National Historic Preservation Act for all components of the project. All archaeological and traditional cultural properties determined significant in consultation with the Arizona State Historic Preservation Officer and interested tribes will be avoided. If they are somehow not avoided, a mitigation plan will be developed in consultation with the State Historic Preservation Officer and the interested tribes. Cultural resource monitoring, if needed, will take place during construction of new high voltage transmission lines and pipelines.

Western is also the lead for compliance with Section 7 of the Endangered Species Act. A biological assessment was prepared and submitted to the U.S. Fish and Wildlife Service (Service) with a determination that the project could affect but not adversely affect any candidate, proposed, or listed species. This Record of Decision is being issued based on verbal concurrence from the Service on Western's determination and written concurrence is expected soon. Additionally, during informal consultation, the Service requested, and Western has agreed, if the 14-mile long pipeline is built, the crossing of the Santa Cruz Wash would be enhanced for the cactus ferruginous pygmy owl. The enhancement will include planting mesquite trees on either side of the pipelines to facilitate emigration of the owl.

Floodplain and Wetlands Statement of Findings

Construction of the Sundance Energy Project would not alter the natural drainage patterns on site. The immediately surrounding area is primarily agricultural and contains irrigation canals, which will move water around and away from the facility. No floodplain classifications for the site and surrounding area have been mapped. The storm water flows will be retained on site in constructed basins to minimize sheet flows.

The new gas pipeline would cross portions of the 100-year flood zone of the Santa Cruz Wash but is not anticipated to affect the floodplain. The ground surface would remain relatively unchanged from pre-development conditions.

All transmission system alternatives, including the selected transmission line alternative and the upgrade of the Coolidge-Signal line, would traverse the 100-year flood zone of McClellan Wash near Coolidge. A large portion of the floodplain is spanned by the existing transmission facility. It would not be practical to use existing transmission line structures and rights-of-way without going through the floodplain. No new transmission structures are expected to be placed in the floodplain. Instead, work would be confined to existing structures, resulting in short-term, temporary disturbances to the floodplain. If, after final project design, additional new structures are needed in the floodplain, they will be designed to conform to applicable Federal, State, and local floodplain protection standards.

A portion of the facility gets inundated during heavy rain events. A wetland delineation study was performed on the site and found none of the criteria needed to identify a wetland (i.e., soils, hydrology, and vegetation) existed. No wetlands would be affected by the proposed action.

Dated: August 20, 2001.
Michael S. Hacskaylo,
Administrator.

[FR Doc. 01-22008 Filed 8-30-01; 8:45 am]

BILLING CODE 6450-01-P